DEPARTMENT OF TRANSPORTATION

Intelligent Transportation Systems Program Advisory Committee; Notice of Meeting

AGENCY: ITS Joint Program Office, Research and Innovative Technology Administration, U.S. Department of Transportation.

ACTION: Notice.

The Intelligent Transportation Systems (ITS) Program Advisory Committee (ITS PAC) will hold a meeting by web conference on May 2, 2012, from 1 p.m. to 2 p.m. (EDT), to welcome new members and to provide the committee an overview of information essential to its functioning.

The ITS PAC, established under Section 5305 of Public Law 109-59, Safe, Accountable, Flexible, Efficient Transportation Equity Act: A Legacy for Users, August 10, 2005, and re-chartered on January 23, 2012, was created to advise the Secretary of Transportation on all matters relating to the study, development, and implementation of intelligent transportation systems. Through its sponsor, the ITS Joint Program Office, the ITS PAC makes recommendations to the Secretary regarding ITS Program needs, objectives, plans, approaches, content, and progress.

The following is a summary of the web conference tentative agenda: (1) Welcome by RITA Acting Administrator; (2) Meeting purpose and agenda review; (3) Overview of ITS PAC purpose, roles, and responsibilities; (4) Overview of the ITS Joint Program Office organization, management, and mission; (5) Overview of the ITS Research Program; and (6) Brief ethics review.

Participation in the web conference is open to the public, but limited conference lines will be available on a first-come, first-served basis. Members of the public who wish to participate must notify Mr. Stephen Glasscock, the Committee Designated Federal Official, at (202) 366-9126 not later than April 20, 2012, at which time the web conference URL and teleconference phone number will be provided. Members of the public may present oral statements at the meeting with Mr. Glasscock's approval. Persons wishing to present oral statements or obtain information should contact Mr. Glasscock.

Questions about the agenda or written comments may be submitted by U.S. Mail to: U.S. Department of Transportation, Research and Innovative Technology Administration, ITS Joint Program Office, Attention: Stephen Glasscock, 1200 New Jersey Avenue SE, HOIT, Washington, DC 20590 or faxed to (202) 493-2027. The ITS Joint Program Office requests that written comments be submitted prior to the meeting.

Notice of this meeting is provided in accordance with the Federal Advisory Committee Act and the General Services Administration regulations (41 CFR Part 102-3) covering management of Federal advisory committees.

Issued in Washington, DC, on the 2nd day of April 2012.
Linda Dodge,
Chief of Staff, ITS Joint Program Office.

[FR Doc. 2012-8313 Filed 4-5-12; 8:45 am]

BILLING CODE 4910-HY-P